DEPARTMENT OF COMMERCE

National Oceanic and Atmospheric Administration

50 CFR Part 648

[Docket No. 241212-0326]

RIN 0648-XE368

Magnuson-Stevens Act Provisions; Fisheries of the Northeastern United States; Fisheries of the Northeastern United States; Atlantic Herring Fishery; Adjustment to 2025 Specifications

AGENCY: National Marine Fisheries Service (NMFS), National Oceanic and Atmospheric Administration (NOAA), Commerce.

ACTION: Interim final rule.

SUMMARY: This interim final rule makes an in-season adjustment to the 2025 Atlantic herring specifications and sub-annual catch limits for the four Atlantic herring management areas (including Area 1A, 1B, 2, and 3). This action is necessary to respond to updated scientific information from a 2024 herring management track stock assessment and achieve the goals and objectives of the Atlantic Herring Fishery Management Plan. This action reduces current 2025 catch limits to lessen the risk overfishing and help rebuild the stock.

DATES: Effective December 19, 2024, through December 31, 2025.

ADDRESSES: Copies of supporting documents, including the 2023-2025 Atlantic Herring Specifications, are available from the Sustainable Fisheries Division, Greater Atlantic Regional Fisheries Office, 55 Great Republic Drive, Gloucester, MA 01930, telephone (978) 281-9315, or online at: https://www.nefmc.org/management-plans/herring and https://www.fisheries.noaa.gov/species/atlantic-herring#management.

FOR FURTHER INFORMATION CONTACT: Carrie Nordeen, Fishery Policy Analyst, 978-281-9272.

SUPPLEMENTARY INFORMATION:

Background

Regulations implementing the Atlantic Herring Fishery Management Plan (FMP) appear at 50 CFR part 648, subpart K. NMFS implemented the 2025 specifications in the 2023-2025 specifications for the Atlantic herring fishery (88 FR 17397; March 23, 2023). The specifications set an overfishing limit (OFL), acceptable biological catch (ABC), annual catch limit (ACL), and sub-ACLs for 2023-2025 for each of the four management areas in the herring fishery, subject to future review and any necessary adjustments. FMP regulations § 648.200(e) state that NMFS may make in-season adjustments to the herring specifications and sub-ACLs to achieve conservation and management objectives, after consulting with the New England Fishery Management Council, during the fishing year in accordance with the Administrative Procedure Act and consistent with FMP objectives and provisions.

Amendment 8 to the FMP (86 FR 1810; January 11, 2021) implemented an ABC control rule for the herring fishery. The ABC control rule is a formulaic approach for setting a harvest limit and is designed to balance the goals and objectives of the FMP, including managing the fishery at long-term sustainable levels and accounting for herring's role as forage in the ecosystem. The ABC control rule states that when biomass is at or above 50 percent of the biomass associated with maximum sustainable yield (BMSY) or its proxy, ABC is the catch associated with a maximum fishing mortality (F) of 80 percent of FMSY or its proxy. When biomass falls below 50 percent of BMSY or its proxy, the allowable F declines linearly to zero at 10 percent of BMSY or its proxy.

On October 2, 2020, NMFS determined the Atlantic herring stock was overfished, but overfishing was not occurring. Framework 9 to the FMP (87 FR 42962; July 19, 2022) established a 5-year rebuilding plan for herring with an F consistent with the ABC control rule implemented in Amendment 8. The rebuilding plan was expected to rebuild the stock by 2026, however, the duration of the rebuilding period was extended from 5 years (2026) to 7 years (2028) with implementation of the 2023-2025 herring specifications.

A 2024 herring management track stock assessment (2024 stock assessment) was completed in June 2024. According to the results of the 2024 stock assessment, the stock continues to be overfished with overfishing not occurring. Retrospective pattern adjustments were necessary because the model overestimated biomass and underestimated mortality. The adjusted spawning stock biomass was estimated to be 26 percent (47,955 metric tons (mt)) of BMSY and the adjusted F was estimated to be 58 percent (0.263) of the overfishing threshold (FMSY equals 0.45). The 2024 stock assessment was unable to explain a cause for the stock's historic and continued low recruitment and projected that poor recruitment of herring will likely result in a substantial decline in biomass.

On July 31, 2024, the Council's Science and Statistical Committee (SSC) reviewed the 2024 stock assessment and recommended harvest limits for 2025-2027. The SSC recommended using the ABC control rule for the OFL and ABC recommendations for 2025-2027, while noting concern for the continued low recruitment and low spawning stock biomass.

At its September 2024 meeting, the Council reviewed the 2024 stock assessment and recommended new specifications for 2025-2027. The Council's recommendations are consistent with the ABC control rule and the SSC's recommendations, with the following exception. Catch projections from the 2024 stock assessment allow for harvest limit increases in 2026 and 2027, compared to 2025. However, the Council recommended holding 2026 harvest limits constant for 2027, instead of allowing for projected limit increases. This precautionary measure is intended to lessen the risk of overfishing and support stock rebuilding, while recognizing that 2027 specifications will likely be revised following the 2025 herring research track stock assessment.

NMFS intends to implement the 2025-2027 specifications via proposed and final rulemaking as soon as possible, but the 2025-2027 specifications would not be effective in time for the start of the fishing year on January 1, 2025. Catch projections from the 2024 assessment indicate the need for an almost 90-percent reduction from the current 2025 ACL (23,961 mt) to the new, reduced 2025 ACL (2,710 mt). Implementing the reduced 2025 specifications after the start of the fishing year on January 1, 2025, raises a significant risk that catch may exceed the reduced catch limits. Therefore, to ensure the reduced 2025 specifications are in place at the start of the fishing year on January 1, the Council requested that NMFS use an in-season adjustment to reduce the current 2025 specifications and sub-ACLs as soon as possible, and NMFS concurs.

The FMP regulations at § 648.201(g) specify that unharvested catch in a herring management area in a fishing year (up to 10 percent of that area's sub-ACL) shall be carried over and added to the sub-ACL for that herring management area for the fishing year following the year when total catch is determined. Preliminary data suggest that 2023 catch levels were substantially lower than allowed in herring management areas 1B and 2. Thus, a percentage of catch underages from 2023 is eligible for carryover to 2025: approximately 54 mt from Area 1B and 346 mt from Area 2. Given the substantial catch reduction needed for 2025 to support the FMP's conservation and management objectives, the Council requested that NMFS use its in-season adjustment authority to nullify any carryover in 2025. NMFS agrees that nullifying any carryover is necessary to lessen the risk of overfishing and to help rebuild the stock. The potential long-term negative effects on the herring stock associated with an increased risk of overfishing and delayed rebuilding outweigh the short-term economic benefits associated with harvesting the available carryover.

Therefore, this interim final rule adjusts the 2025 specifications and sub-ACLs consistent with the FMP's goals to lessen the risk of overfishing and help rebuild the stock. The current and reduced 2025 specifications are shown in the table below.

Measures Implemented in This Action

This action reduces 2025 specifications and sub-ACLs consistent with the FMP's goals to lessen the risk of overfishing and help rebuild the stock. The complete 2025-2027 specifications would be implemented via proposed and final rulemaking as soon as possible following the in-season adjustment. The current and new, reduced 2025 specifications are shown in table 1 below.

Table 1—In-Season Adjusted 2025 Herring Specifications
Specifications | Current 2025 (mt) | New 2025 (mt)
Overfishing Limit | 40,727 | 18,273
Acceptable Biological Catch | 28,181 | 6,741
Management Uncertainty Buffer | 4,220 | 4,031
Optimal Yield/Annual Catch Limit | 23,961 | 2,710
Domestic Annual Harvest | 23,961 | 2,710
Border Transfer | 0 | 0
Domestic Annual Processing | 23,961 | 2,710
US At-Sea Processing | 0 | 0
Area 1A Sub-ACL (28.9%) | 6,925 | 783
Area 1B Sub-ACL (4.3%) | 1,030 | 117
Area 2 (27.8%) | 6,661 | 753
Area 3 (39%) | 9,345 | 1,057
Fixed Gear Set-Aside | 30 | 30
Research Set-Aside | 0% | 0%
* If New Brunswick weir landings are less than 2,722 mt through October 1, then 1,000 mt will be subtracted from the management uncertainty buffer and reallocated to the Area 1A sub-ACL and the ACL.

OFL

OFL is equal to catch resulting from applying FMSY to a current estimate of stock size. This action decreases the 2025 OFL by 55 percent relative to the current 2025 OFL. The difference between the current and reduced OFLs is due to data updates during the 2024 assessment. FMSY is lower in the 2024 assessment than it was in the previous 2022 assessment (0.45 and 0.50, respectively) and projected biomass is much lower in the 2024 assessment than it was in the 2022 assessment (47,955 mt and 79,231 mt, respectively).

ABC

ABC must be less than or equal to the OFL. This action reduces the current 2025 ABC by 76 percent. The difference between the current and reduced ABCs are due to data updates contained and discussed in the 2024 assessment. Under the ABC control rule, the target F that defines the ABC depends on the ratio of biomass to BMSY. The smaller the ratio, the smaller the target F and ABC. Biomass is lower in the 2024 assessment than it was in the 2022 assessment, causing the ratio of biomass to BMSY to decrease relative to the 2022 assessment, resulting in a lower target F and ABC.

Management Uncertainty

The ACL is reduced from the ABC to account for management uncertainty. The Atlantic Herring FMP states that sources of management uncertainty can include, but are not limited to, uncertainty surrounding catch in the New Brunswick weir fishery and herring discard estimates in Federal and State waters. Currently, the only source of management uncertainty that is applied to the 2025 ABC is catch in the New Brunswick weir fishery. Since Framework Adjustment 6 to the Atlantic Herring FMP was implemented in 2020 (85 FR 26874; May 6, 2020), management uncertainty has been calculated as the average annual landings in the New Brunswick weir fishery over the most recent 10-year period. Landings in the weir fishery are highly variable, fluctuating with herring availability and fishing effort. Using landings data from a 10-year period captures this variability. This action maintains the same approach for calculating management uncertainty. The resulting management uncertainty buffer (4,031 mt) is based on New Brunswick weir fishery landings during 2014-2023.

Other Specifications Components

The Council recommended maintaining the remainder of the 2025 herring specifications at current levels or using existing methodology to calculate them, as described in Table 1, and NMFS agrees with this approach.

Classification

NMFS is issuing this rule pursuant to section 305(d) of the Magnuson-Stevens Act. Pursuant to section 305(d), this action is necessary to carry out the Atlantic Herring FMP and its regulations at § 648.200(e). Consistent with the FMP and regulations, in this action NMFS reduces the 2025 herring specifications to achieve conservation and management objectives, after consulting with the Council at its September 2024 meeting. The NMFS Assistant Administrator (AA) has determined that this rule is consistent with Atlantic Herring FMP, National Standards and other provisions of the Magnuson-Stevens Act, and other applicable law.

This interim final rule is exempt from the procedures of the Regulatory Flexibility Act because the rule is not required to be issued with opportunity for prior notice and opportunity for public comment.

This interim final rule is exempt from the procedures of Executive Order (E.O.) 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

This interim final rule contains no information collection requirements under the Paperwork Reduction Act of 1995.

The AA finds good cause under 5 U.S.C. 553(b)(B) that prior notice and the opportunity for public comment on this interim final rule would be impracticable and contrary to the public interest because this action to make an in-season adjustment to reduce the 2025 Atlantic herring specifications would lessen the risk of overfishing and help rebuild the stock, consistent with the Magnuson-Stevens Act, and the Atlantic Herring FMP, including the rebuilding plan.

Data in the 2024 assessment, which was completed in June, showed that the stock continues to be overfished with overfishing not occurring. At its September 2024 meeting, the Council reviewed the 2024 stock assessment and recommended new specifications for 2025-2027. Catch projections in the 2024 assessment indicate the need for an almost 90-percent reduction in the current 2025 ACL (23,961 mt) to the adjusted 2025 ACL (2,710 mt), as reduced in this in-season adjustment. NMFS intends to implement the 2025-2027 specifications in proposed and final rules via the notice and comment rulemaking process as soon as possible, but the 2025-2027 specifications would not be effective in time for the start of the fishing year on January 1, 2025. However, implementing the adjusted 2025 specifications after the start of the fishing year on January 1, 2025, would raise a significant risk that catch occurring before implementation may exceed the adjusted 2025 catch limits.

The Atlantic Herring FMP regulations at § 648.200(e) specify that NMFS may adjust the herring specifications and sub-ACLs to achieve conservation and management objectives, after consulting with the Council, in accordance with the Administrative Procedure Act and consistent with FMP objectives and provisions. To ensure adjusted (reduced) 2025 harvest specifications are in place at the start of the fishing year on January 1, 2025, thus lessening the risk of overfishing and helping rebuild the stock, the Council requested NMFS to use an in-season adjustment to reduce the 2025 specifications and sub-ACLs as soon as possible, and NMFS concurs. Public testimony at the September Council meeting largely reflected the understanding that this 2025 in-season adjustment is necessary to lessen the risk of overfishing and help rebuild the stock. A delay in implementing adjusted (reduced) 2025 specifications would increase the risk that 2025 catch levels would exceed the adjusted (reduced) limits, potentially resulting in overfishing and negatively affecting stock rebuilding.

For these same reasons, the AA also finds good cause under 5 U.S.C. 553(d) (3) to waive the 30-day delay in the date of effectiveness for this interim final rule. Waiving the delay in the date of effectiveness for this in-season action to adjust (reduce) the 2025 catch limits would allow the adjusted catch limits to go in effect at the start of the fishing year, whereas delaying the effective date could undermine this action's intended conservation benefits of lessening the risk of overfishing and helping rebuild the stock.

Authority: 16 U.S.C. 1801 et seq.

Dated: December 13, 2024.
Samuel D. Rauch, III,
Deputy Assistant Administrator for Regulatory Programs, National Marine Fisheries Service.

[FR Doc. 2024-30083 Filed 12-18-24; 8:45 am]

BILLING CODE 3510-22-P